FEDERAL COMMUNICATIONS COMMISSION

47 CFR Part 23

[IB Docket No. 00-248; FCC 05-130]

Revisions of the Commission's Rules and Spectrum Usage by Satellite Network Earth Stations and Space Stations

AGENCY: Federal Communications Commission.

ACTION: Final rule.

SUMMARY: In this document, the Federal Communication Commission (FCC) invited commenters to propose revisions to part 23 of the Commission's rules, governing International Fixed Public Radiocommunication Services (IFRS). Because no one proposed any revisions to part 23, we terminate our consideration of part 23 issues in this context of IB Docket 00-248.

DATES: Effective October 28, 2005.

FOR FURTHER INFORMATION CONTACT: Steven Spaeth (202)418-1539, Satellite Division, International Bureau, Federal Communications Commission, Washington, DC 20554.

SUPPLEMENTARY INFORMATION: This is a summary of the Commission's Seventh Report and Order in IB Docket 00-248, adopted June 20, 2005 and released June 24, 2005. The full text of the Seventh Report and Order is available for public inspection and copying during regular business hours at the FCC Reference Information Center, Portals II, 445 12th Street, SW., Room CY-A257, Washington, DC 20054. This document may also be purchased from the Commission's duplicating contractor, Best Copy and Printing, Inc., Portals II, 445 12th Street, SW., Room CY-B402, Washington, DC 20554, telephone 202-488-5300, facsimile 202-488-5563, or via e-mail FCC@BCPIWEB.com.

Summary of Notice of Proposed Rulemaking

No one proposed revising or eliminating any provisions in part 23 of the Commission's rules in response to the NPRM published elsewhere in this issue. As a result, we find that the record before us at this time does not provide any basis for revising part 23 of the Commission's rules. Accordingly, we will not revise part 23 of the Commission's rules at this time. This terminates our consideration of part 23 of the Commission's rules issues in the context of IB Docket No. 00-248.

Final Regulatory Flexibility Certification. The Regulatory Flexibility Act of 1980, as amended (RFA) requires that a regulatory flexibility analysis be prepared for rulemaking proceedings, unless the agency certifies that “the rule will not have a significant economic impact on a substantial number of small entities.” The RFA generally defines “small entity” having the same meaning as the terms “small business,” “small organization,” and “small governmental jurisdiction.” In addition, the term “small business” has the same meaning as the term “small business concern” under the Small Business Act. A small business concern is one which: (1) Is independently owned and operated; (2) is not dominant in its field of operation; and (3) satisfies any additional criteria established by the Small Business Administration (SBA). No FRFA is necessary for the Seventh Report and Order because we have decided not to make any changes to the Commission's rules at this time.

Ordering Clauses

Accordingly, it is ordered, pursuant to section 4(i), 7(a), 11, 303(c), 303(f), 303(g), and 303(r), of the Communication Act of 1934, as amended 47 U.S.C. 154(i), 161, 303(c), 303(g), and 303(r), that this Seventh Report and Order in IB Docket No. 00-248 is hereby adopted.

Accordingly, it is further ordered that the Consumer and Governmental Affairs Bureau, Reference Information Center, shall send a copy of this Order, including the Final Regulatory Flexibility Certification, to the Chief Counsel for Advocacy of the Small Business Administration.

Federal Communications Commission.
Marlene H. Dortch,
Secretary.

[FR Doc. 05-19159 Filed 9-27-05; 8:45 am]

BILLING CODE 6712-01-P